DEPARTMENT OF AGRICULTURE

National Institute of Food and Agriculture

Notice of Intent To Request Approval of a New Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to request a new information collection, entitled National 4-H Conference Registration and Leadership Roles.

DATES: Written comments on this notice must be received by May 1, 2023 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: National 4-H Conference Registration and Leadership Roles.

OMB Control Number: 5024-NEW.

Type of Request: Notice of intent to request approval of a new information collection.

Abstract: NIFA is requesting approval of a new information collection entitled “National 4-H Conference Registration and Leadership Roles.” This information collection is required to support the successful planning and delivery of activities associated with National 4-H Conference. The information collection is essential to provide the necessary instructions and paperwork to eligible registrants who would like to attend or serve in a leadership role at National 4-H Conference.

The National 4-H Conference at the U.S. Department of Agriculture (USDA) is known as the “Secretary's Conference” and has been the flagship youth development opportunity of USDA since 1927. The objectives of National 4-H Conference are to: develop the next generation of leaders; increase youths' familiarity with the government and future career opportunities; and provide an opportunity for young people involved in 4-H in rural, urban and Tribal communities to share their voice on a national level with the federal government.

National 4-H Conference is administered by the National Institute of Food and Agriculture (NIFA) of the USDA. NIFA has determined that the Conference is reasonably and logically related to carrying out its statutory authority under Section 7511(f)(2) of the Food, Conservation, and Energy Act of 2008 (Pub. L. 110-246), as amended.

All NIFA Land-grant Colleges and Universities (1862, 1890, and 1994) are invited to select and send high school aged 4-H participants along with chaperones to National 4-H Conference. Each is encouraged to partner within their state to select a diverse state delegation based on age, background, geographic distribution, and/or experience with the 4-H Program.

Approximately 220 4-H participants between the ages of 15 to 19; 90 adult volunteer chaperones from 1862, 1890, and 1994 Institutions and the Cooperative Extension System; and 25 partner groups from across the federal government as well as non-profit organizations register to participate. Additionally, four adults, 17 college students and six youths serve in leadership positions.

The multi-day event is held in the Washington, DC area in Spring and includes registration, a published substantive agenda, scheduled speakers, and discussion panels. A core program activity is the federal briefings where youth delegates plan and deliver briefings based on challenge questions submitted by partnering federal agencies and congressional committees. The Secretary of Agriculture speaks during the Secretary's Assembly and in the past, U.S. Presidents have graced the event.

NIFA exercises overall oversight and development of the program for National 4-H Conference and works cooperatively with a logistics company, authorized under 7 U.S.C. 3318(c), who provides the required goods and services to ensure National 4-H Conference is successful at achieving its objectives.

The information collection is used by USDA and the logistics company to ensure youth and adults who would like to attend or serve in a leadership role at National 4-H Conference can be contacted, submit activity and dietary preferences, meet eligibility requirements, and provide the required permissions required by law such as parental/guardian consent. The information collection is necessary to evaluate the application and other required paperwork for determining the applicant's eligibility and to assist in the selection of the leadership team for National 4-H Conference.

Type of Respondents: Individuals or Institutions of Higher Education.

Estimate of Burden: The annual public reporting burden for the collection of information is estimated to average one (1) hour per response. Public reporting burden for this information collection is estimated to include the time for reviewing instructions, searching existing data sources, gathering the data needed and completing and reviewing the collections of information.

Estimated Number of Respondents: 400.

Estimated Number of Responses per Respondent: 1.

Estimated Burden per Response: 1 hour.

Estimated Total Annual Burden on Respondents: 400 hours.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including using appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Washington, DC, this day of February 23, 2023.
Dionne Toombs,
Acting Director, National Institute of Food and Agriculture, U.S. Department of Agriculture.

[FR Doc. 2023-04132 Filed 2-28-23; 8:45 am]

BILLING CODE 3410-22-P